DEPARTMENT OF LABOR

Employment and Training Administration

[TA-W-39,485]

Senior Automotive, Bartlett, IL; Notice of Termination of Investigation

Pursuant to section 221 of the Trade Act of 1974, an investigation was initiated on June 25, 2001 in response to a worker petition filed by a company official on behalf of workers at Senior Automotive, Bartlett, Illinois.

The petitioner has requested that the petition be withdrawn. Consequently further investigation in this case would serve no purpose, and the investigation has been terminated.

Signed in Washington, DC, this 31st day of August, 2001.
Edward A. Tomchick,
Director, Division of Trade Adjustment Assistance.

[FR Doc. 01-23532 Filed 9-20-01; 8:45 am]

BILLING CODE 4510-30-M